DEPARTMENT OF THE INTERIOR

Bureau of Indian Affairs

[245A2100DD/AAKC001030/A0A501010.999900]

Johnson-O'Malley Program

AGENCY: Bureau of Indian Affairs, Interior.

ACTION: Notice of Final Report.

SUMMARY: Under the Johnson-O'Malley (JOM) Act of 1934, as amended by the JOM Supplemental Indian Education Program Modernization Act of 2018, the Bureau of Indian Education (BIE) is publishing a Final Report that describes the initial determination of the number of eligible Indian students served or potentially served by each eligible entity, the data used for BIE to make such determination, feedback gained during the comment period, and justification for not applying feedback gained during the comment period.

FOR FURTHER INFORMATION CONTACT: Spike Bighorn, Program Manager, Office of Sovereignty in Indian Education, Bureau of Indian Education, via email at spike.bighorn@bie.edu or telephone at (202) 499-0482.

SUPPLEMENTARY INFORMATION: The Johnson-O'Malley Supplemental Indian Education Program Modernization Act of 2018, Public Law 115-404, directed the Secretary of the Interior (Secretary) to publish a preliminary report describing the number of eligible Indian students served or potentially served by each eligible entity, using the most applicable and accurate data from the fiscal year preceding the fiscal year for which the initial determination is to be made. See 84 FR 57880, dated October 29, 2019. The 60-day comment period ended on December 30, 2019.

The BIE received feedback on the preliminary report from four entities. On June 16, 2022, BIE submitted to Congress a final report (JOM Final Report) on the initial determination of the number of eligible Indian students served or potentially served by each eligible entity, including justification for not including feedback gained during the consultation period. On July 14, 2023, BIE published the JOM Final Report on the BIE website where it remains publicly available at https://www.bie.edu/supplemental-education-programs.

Brian Newland,
Assistant Secretary—Indian Affairs.

[FR Doc. 2023-23148 Filed 10-19-23; 8:45 am]

BILLING CODE 4337-15-P